DEPARTMENT OF TRANSPORTATION

Federal Aviation Administration

14 CFR Part 39

[Docket No. 2003-NM-37-AD]

RIN 2120-AA64

Airworthiness Directives; Israel Aircraft Industries, Ltd., Model 1121, 1121A, 1121B, 1123, 1124, and 1124A Series Airplanes

AGENCY: Federal Aviation Administration, DOT.

ACTION: Notice of proposed rulemaking (NPRM).

SUMMARY: This document proposes the adoption of a new airworthiness directive (AD) that is applicable to all Israel Aircraft Industries, Ltd., Model 1121, 1121A, 1121B, 1123, 1124, and 1124A series airplanes. This proposal would require a one-time inspection to detect cracking and other discrepancies of both sides of the rudder skins and ribs, forward to aft on each spar, to detect cracks below the skin surface; and corrective action if necessary. This action is necessary to detect and correct cracking of the skins of the rudder assembly, which could result in reduced structural capability of the rudder and reduced controllability of the airplane. This action is intended to address the identified unsafe condition.

DATES: Comments must be received by June 7, 2004.

ADDRESSES: Submit comments in triplicate to the Federal Aviation Administration (FAA), Transport Airplane Directorate, ANM-114, Attention: Rules Docket No. 2003-NM-37-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-37-AD” in the subject line and need not be submitted in triplicate. Comments sent via the Internet as attached electronic files must be formatted in Microsoft Word 97 or 2000 or ASCII text.

The service information referenced in the proposed rule may be obtained from Gulfstream Aerospace Corporation, P.O. Box 2206, Mail Station D25, Savannah, Georgia 31402. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-37-AD.” The postcard will be date stamped and returned to the commenter.

Availability of NPRMs

Any person may obtain a copy of this NPRM by submitting a request to the FAA, Transport Airplane Directorate, ANM-114, Attention: Rules Docket No. 2003-NM-37-AD, 1601 Lind Avenue, SW., Renton, Washington 98055-4056.

Discussion

The Civil Aviation Administration of Israel (CAAI), which is the airworthiness authority for Israel, notified the FAA that an unsafe condition may exist on all Israel Aircraft Industries, Ltd., Model 1121, 1121A, 1121B, 1123, 1124, and 1124A series airplanes. The CAAI advises that multiple cracks were discovered in the skins of the rudder assemblies outside the area depicted in the Structural Inspection Program. This condition, if not corrected, could result in reduced structural integrity of the rudder and reduced controllability of the airplane.

Explanation of Relevant Service Information

Israel Aircraft Industries has issued the following service bulletins:

Service Information
Service bulletin— | Revision— | Dated— | For model—
1121 Commodore Jet (Israel Aircraft Industries) Service Bulletin 1121-55-030 | 1 | June 23, 2003 | 1121, 1121A, and 1121B series airplanes.
1123—Westwind (Israel Aircraft Industries) Service Bulletin 1123-55-056 | 1 | June 23, 2003 | 1123 series airplanes.
1124—Westwind (Israel Aircraft Industries) Service Bulletin 1124-55-150 | 1 | June 23, 2003 | 1124 and 1124A series airplanes.

The service bulletins describe procedures for a one-time visual inspection of both sides of the rudder skins and ribs, forward to aft on each spar, between stations ZR=46.134 and ZR=126.900 on the front spar and Z=94.400 to Z=174.100 on the rear spar. The inspection is intended to detect loose or distorted rivet heads and cracks in the skin around the spar cap flange river holes. The service bulletins also describe procedures for a one-time x-ray inspection of the rudder assembly ribs between Z=94.400 and Z=174.100 to detect cracks below the skin surface. The service bulletins recommend that operators contact General Dynamics Aviation Services for information regarding repair of cracks and loose rivets. The CAAI classified these service bulletins as mandatory and issued Israeli airworthiness directive 55-02-12-04R1, dated December 10, 2003, to ensure the continued airworthiness of these airplanes in Israel.

FAA's Conclusions

These airplane models are manufactured in Israel and are type certificated for operation in the United States under the provisions of section 21.29 of the Federal Aviation Regulations (14 CFR 21.29) and the applicable bilateral airworthiness agreement. Pursuant to this bilateral airworthiness agreement, the CAAI has kept the FAA informed of the situation described above. The FAA has examined the findings of the CAAI, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the applicable service bulletin described previously, except as discussed below.

Differences Between Proposed AD and Service Information

Although the service bulletins specify that operators may contact General Dynamics Aviation Services for disposition of certain repair conditions, this proposed AD would require the repair of those conditions to be accomplished in accordance with a method approved by either the FAA or the CAAI (or its delegated agent). In light of the type of repair that would be required to address the identified unsafe condition, and in consonance with existing bilateral airworthiness agreements, the FAA has determined that, for this proposed AD, a repair approved by either the FAA or the CAAI would be acceptable for compliance.

Operators should note that, although the Accomplishment Instructions of the referenced service bulletins may describe procedures for submitting a certificate of compliance with the service bulletin, this proposed AD would not require those actions. The FAA does not need this information from operators.

Interim Action

This is considered to be interim action until final action is identified, at which time the FAA may consider further rulemaking.

Cost Impact

The FAA estimates that 300 airplanes of U.S. registry would be affected by this proposed AD, that it would take approximately 3 work hours per airplane to accomplish the proposed actions, and that the average labor rate is $65 per work hour. Based on these figures, the cost impact of the proposed AD on U.S. operators is estimated to be $58,500, or $195 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Israel Aircraft Industries, Ltd: Docket 2003-NM-37-AD.

Applicability: All Model 1121, 1121A, 1121B, 1123, 1124, and 1124A series airplanes; certificated in any category.

Compliance: Required as indicated, unless accomplished previously.

To detect and correct cracking of the skins of the rudder assembly, which could result in reduced structural capability of the rudder and reduced controllability of the airplane, accomplish the following:

Inspections

(a) Within 50 flight hours after the effective date of this AD, do detailed and x-ray inspections to detect discrepancies (including cracking, loose rivets, and distorted rivet heads) of both sides of the rudder skins and ribs, forward to aft on each spar, in accordance with the applicable service bulletin identified in Table 1 of this AD. Although the service bulletin referenced in this AD specifies to submit certain information to the manufacturer, this AD does not include such a requirement.

Table 1.—Service Information Reference
For— | Inspect in accordance with—
Model 1121, 1121A, and 1121B series airplanes | 1121 Commodore Jet (Israel Aircraft Industries) Service Bulletin 1121-55-030, Revision 1, dated June 23, 2003.
Model 1123 series airplanes | 1123—Westwind (Israel Aircraft Industries) Service Bulletin 1123-55-056, Revision 1, dated June 23, 2003.
Model 1124 and 1124A series airplanes | 1124—Westwind (Israel Aircraft Industries) Service Bulletin 1124-55-150, Revision 1, dated June 23, 2003.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Corrective Action

(b) If any discrepancy is found during any inspection required by paragraph (a) of this AD: Before further flight, repair it in accordance with a method approved by either the Manager, International Branch, ANM-116, FAA, Transport Airplane Directorate; or the Civil Aviation Administration of Israel (CAAI) (or its delegated agent).

Part Installation

(c) As of the effective date of this AD, no person may install a rudder on any airplane, unless the actions required by this AD have been accomplished.

Alternative Methods of Compliance

(d) In accordance with 14 CFR 39.19, the Manager, International Branch, ANM-116, Transport Airplane Directorate, FAA, is authorized to approve alternative methods of compliance for this AD.

Note 2: The subject of this AD is addressed in Israeli airworthiness directive 55-02-12-04R1, dated December 10, 2003.

Issued in Renton, Washington, on April 27, 2004.
Kevin M. Mullin,
Acting Manager, Transport Airplane Directorate, Aircraft Certification Service.

[FR Doc. 04-10379 Filed 5-6-04; 8:45 am]

BILLING CODE 4910-13-P